NUCLEAR REGULATORY COMMISSION

[Docket Nos. 52-014-COL and 52-015-COL; ASLBP No. 08-864-02-COL-BD01]

Atomic Safety and Licensing Board Panel; In the Matter of Tennessee Valley Authority (Bellefonte Nuclear Power Plant Units 3 and 4); Notice of Hearing (Application for Combined Operating License)

October 14, 2008.

Before the Licensing Board: G. Paul Bollwerk, III, Chairman; Dr. Anthony J. Baratta; Dr. William W. Sager.

This proceeding concerns the October 30, 2007 application of the Tennessee Valley Authority (TVA) for a 10 CFR Part 52 combined operating license (COL). This TVA COL application seeks approval for the construction and operation of two new nuclear reactors on the existing Bellefonte Nuclear Power Plant site near Scottsboro, Alabama. In response to a February 8, 2008 notice of hearing and opportunity to petition for leave to intervene, 73 FR 7611 (Feb. 8, 2008), as amended by Commission order on April 7, 2008, 73 id. 19,904 (Apr. 11, 2008), on June 6, 2008, the Southern Alliance for Clean Energy (SACE), the Blue Ridge Environmental Defense League (BREDL), and BREDL's Bellefonte Efficiency and Sustainability Team (BEST) chapter (collectively Joint Petitioners) filed a request for hearing and petition to intervene contesting the TVA COL application. On June 12, 2008, the Commission referred the petition to the Atomic Safety and Licensing Board Panel to conduct any subsequent adjudication. On June 18, 2008, a three-member Atomic Safety and Licensing Board was established to preside over the contested portion of this COL proceeding. See 73 FR 35,714 (June 24, 2008).¹

¹ Consistent with section 189a.(1)(A) of the Atomic Energy Act, 42 U.S.C. 2239(a)(1)(A), in connection with the TVA Bellefonte COL application the agency also must conduct a “mandatory” or “uncontested” hearing in which it will receive evidence from TVA and the NRC staff regarding matters raised by the presiding officer concerning the conduct of the staff's safety and environmental reviews. During that mandatory hearing, the presiding officer will explore issues associated with the Bellefonte COL application that are not the subject of this “contested” proceeding regarding the Joint Petitioners contentions admitted for litigation, and will make a determination concerning the adequacy of the staff's safety and environmental reviews, as well as certain independent National Environmental Policy Act findings. See 10 CFR 52.97(a)(1). Current Commission policy calls for the Commission itself to conduct the mandatory hearing for the Bellefonte Units 3 and 4 COL application. See Memorandum to Luis A. Reyes, Executive Dir. for Operations, Karen D. Cyr, General Counsel, Frank P. Gillespie, Executive Dir., Advisory Comm. on Reactor Safeguards, from Annette L. Vietti-Cook, Secretary of the Comm'n, Staff Requirements—COMDEK-07-0001/COMJSM-07-0001—Report of the Combined License Review Task Force at 1 (June 22, 2007) (ADAMS Accession No. ML071760109).

On July 30, 2008, the Board conducted a one-day initial prehearing conference in Scottsboro, Alabama, during which it heard oral presentations regarding the standing of each of the Joint Petitioners, the timeliness of their hearing petition, and the admissibility of their twenty-four proffered contentions. Thereafter, in a September 12, 2008 issuance, finding that Joint Petitioners SACE and BREDL had established the requisite standing to intervene in this proceeding and that they had timely submitted four admissible contentions concerning the TVA COL application, the Board admitted these two entities as parties to this proceeding. See Tennessee Valley Authority (Bellefonte Nuclear Power Plant Units 3 and 4), LBP-08-16, 68 NRC___ (Sept. 12, 2008).

In light of the foregoing, please take notice that a hearing will be conducted in this proceeding. Subject to any Board determination regarding any request to utilize formal hearing procedures under 10 CFR Part 2, Subpart G, see 10 CFR 2.310(d), the hearing on contested matters will be governed by the informal hearing procedures set forth in 10 CFR Part 2, Subparts C and L, 10 CFR 2.300-2.390, 2.1200-12.1213.

During the course of this contested proceeding, the Board may conduct an oral argument, as provided in 10 CFR 2.331, may hold additional prehearing conferences pursuant to 10 CFR 2.329, and may conduct evidentiary hearings in accordance with 10 CFR 2.327-2.328, 2.1206-2.1208. The public is invited to attend any oral argument, prehearing conference, or evidentiary hearing. Notices of those sessions will be published in the Federal Register and/or made available to the public at the NRC Public Document Room (PDR), located at One White Flint North, 11555 Rockville Pike (first floor), Rockville, Maryland, and through the NRC Web site, http://www.nrc.gov.

Additionally, as provided in 10 CFR 2.315(a), any person not a party to the proceeding may submit a written limited appearance statement. Limited appearance statements, which are placed in the docket for the hearing, provide members of the public with an opportunity to make the Board and/or the participants aware of their concerns about matters at issue in the proceeding. A written limited appearance statement can be submitted at any time and should be sent to the Office of the Secretary using one of the methods prescribed below:

Mail to: Office of the Secretary, Rulemakings and Adjudications Staff, U.S. Nuclear Regulatory Commission, Washington, DC 20555-0001.

Fax to: (301) 415-1101 (verification (301) 415-1966).

E-mail to: hearingdocket@nrc.gov.

In addition, a copy of the limited appearance statement should be sent to the Licensing Board Chairman using the same method at the address below:

Mail to: Administrative Judge G. Paul Bollwerk, III, Atomic Safety and Licensing Board Panel, Mail Stop T-3F23, U.S. Nuclear Regulatory Commission, Washington, DC 20555-0001.

Fax to: (301) 415-5599 (verification (301) 415-7550).

E-mail to: gpb@nrc.gov.

At a later date, the Board may entertain oral limited appearance statements at a location or locations in the vicinity of the proposed site for Bellefonte Units 3 and 4. Notice of any oral limited appearance sessions will be published in the Federal Register and/or made available to the public at the NRC PDR and on the NRC Web site, www.nrc.gov.

Documents relating to this proceeding are available for public inspection at the Commission's PDR or electronically from the publicly available records component of NRC's document system (ADAMS). ADAMS is accessible from the NRC Web site at http://www.nrc.gov/reading-rm/adams.html (the Public Electronic Reading Room). Persons who do not have access to ADAMS, or who encounter problems in accessing the documents located in ADAMS, should contact the NRC PDR Reference staff by telephone at 1-800-397-4209, 301-415-4737, or by e-mail to pdr@nrc.gov.

It is so ordered.

For the Atomic Safety and Licensing Board.²
² Copies of this notice of hearing were sent this date by the agency's E-Filing system to the counsel/representatives for (1) Applicant TVA; (2) Joint Intervenors SACE and BREDL; and (3) the staff.
Dated: October 14, 2008.
G. Paul Bollwerk, III,
Chairman, Rockville, Maryland.

[FR Doc. E8-24892 Filed 10-17-08; 8:45 am]

BILLING CODE 7590-01-P